ENVIRONMENTAL PROTECTION AGENCY

[FRL-8241-6]

Agency Information Collection Activities; OMB Responses Correction

AGENCY: Environmental Protection Agency (EPA).

ACTION: Notice; correction.

SUMMARY: The Environmental Protection Agency published a document in the Federal Register of October 25, 2006, concerning OMB's responses. This document contained incorrect information.

FOR FURTHER INFORMATION CONTACT: Susan Auby at (202) 566-1672.

Correction

In the Federal Register of October 25, 2006, in FR Doc. E6-17876, on page 62439, at the middle of the second column, correct the EPA ICR No. to read:

EPA ICR No. 0663.09; NSPS for Beverage Can Surface Coating (Renewal); in 40 CFR part 60, subpart WW; was approved 10/03/2006; OMB Number 2060-0001; expires 10/31/2009.

Dated: November 1, 2006.
Oscar Morales,
Director, Collection Strategies Division.

[FR Doc. E6-19174 Filed 11-13-06; 8:45 am]

BILLING CODE 6560-50-P